DEPARTMENT OF COMMERCE

International Trade Administration

19 CFR Part 361

[Docket Number: 090416682-9683-01]

Mexican Cement Import Licensing System

AGENCY: Import Administration, International Trade Administration, Department of Commerce.

ACTION: Final rule; removal of regulations.

SUMMARY: The Department of Commerce is removing its Mexican Cement Import Licensing (“MCILS”) regulations currently published at 19 CFR Part 361. This action is being taken pursuant to provisions of the Agreement Between the Office of the United States Trade Representative and the Department of Commerce of the United States of America and the Ministry of Economy of the United Mexican States (Secretaria de Economia) on Trade in Cement (“Cement Agreement”), signed March 6, 2006. The Cement Agreement was terminated at 11:59 p.m. on March 31, 2009. Accordingly, the MCILS will no longer be necessary.

DATE: Effective Date: May 12, 2009.

FOR FURTHER INFORMATION CONTACT: Sally C. Gannon, (202) 482-0162 or Judith Wey Rudman, (202) 482-0192.

SUPPLEMENTARY INFORMATION: On March 6, 2006, the Office of the United States Trade Representative (“USTR”) and the United States Department of Commerce (“Commerce”) entered into an agreement with the Secretaria de Economia of Mexico pertaining to imports of gray portland cement and clinker from Mexico (“Mexican Cement”). The Cement Agreement provided for the settlement or suspension of ongoing litigation before North American Free Trade Agreement and World Trade Organization panels challenging various antidumping duty determinations involving Mexican Cement. Pursuant to the terms of the Cement Agreement, on February 28, 2007, Import Administration (“IA”) issued a rule to add new regulations implementing the MCILS. This rule required all importers of cement from Mexico covered by the scope of the Cement Agreement to obtain an import license from the Department prior to completing their U.S. Customs and Border Protection entry summary documentation. IA used the information recorded via the MCILS to monitor compliance with the Cement Agreement. The Cement Agreement also provided that if all interested parties had abided by its terms, Commerce would terminate the Cement Agreement on March 31, 2009, and would revoke the underlying antidumping duty order. All obligations of the Cement Agreement were fulfilled; therefore, Commerce has terminated the Cement Agreement, and revoked the underlying antidumping duty order through a notice entitled Gray Portland Cement and Clinker from Mexico: Final Results of Changed-Circumstances Review, Revocation of Antidumping Duty Order, and Termination of Five-Year (Sunset) Review of Antidumping Duty Order published in the Federal Register on April 6, 2009 (74 FR 15435). As a result, the MCILS is no longer necessary and Commerce is removing the regulations pertaining to it. Commerce will also discontinue the associated collection-of-information authorization provided by the Office of Management and Budget under Control Number 0625-0259.

Classification

Executive Order 12866: This action has been determined to be not significant under E.O. 12866.

Administrative Procedure Act: The Department of Commerce finds good cause under 5 U.S.C. 553(b)(B) to waive prior notice and opportunity for public comment as it is contrary to the public interest. The regulations implementing the MCILS required all importers of cement from Mexico covered by the scope of the Cement Agreement to obtain an import license from the Department through the MCILS prior to completing their U.S. Customs and Border Protection entry summary documentation. IA used the information recorded via the MCILS to monitor compliance with the Cement Agreement. The Cement Agreement provided that if all interested parties had abided by its terms, Commerce would terminate the Cement Agreement on March 31, 2009, and would revoke the underlying antidumping duty order. All obligations of the Cement Agreement were fulfilled; therefore, Commerce terminated the Cement Agreement on the agreed upon date. Commerce also revoked the underlying antidumping duty order effective April 1, 2009. See 74 FR 15435. Accordingly, it is no longer necessary to collect licensing information via the MCILS, and is therefore in the public interest to discontinue regulations requiring importers to use, and for IA to maintain, the MCILS. If the Department continued to allow the operation of the MCILS, the public would be unduly burdened by the MCILS regulations. For the above reasons, the Department waives the notice and comment rulemaking requirements of 5 U.S.C. 553(b)(B) and issues this rule in final form.

The Department of Commerce finds good cause under 5 U.S.C. 553(d)(1) to waive the 30-day delay in effectiveness as this rule relieves a restriction. This rule removes the regulations requiring all importers of cement from Mexico covered by the scope of the Cement Agreement to obtain an import license from the Department prior to completing their U.S. Customs and Border Protection entry summary documentation because it is no longer necessary to collect this information. Pursuant to the terms of the Agreement, the Department terminated the Cement Agreement on March 31, 2009, and revoked the underlying antidumping duty order effective April 1, 2009. See 74 FR 15435. Because it is no longer necessary to collect the information through the MCILS, the Department discontinues the MCILS, and removes the related implementing regulations through this final rule. The removal of the MCILS regulations constitutes a relief of a restriction as importers of cement from Mexico would no longer be required to obtain an import license from the Department. In order to implement this action immediately, the Department makes this rule effective upon publication.

Regulatory Flexibility Act: Because notice and opportunity for comment are not required pursuant to 5 U.S.C. 553 or any other law, the analytical requirements of the Regulatory Flexibility Act (5 U.S.C. 601 et seq.) are inapplicable. Therefore, a regulatory flexibility analysis is not required and has not been prepared.

List of Subjects in 19 CFR Part 361

Mexican Cement Import Licensing System.

Accordingly, pursuant to 13 U.S.C. 301(a) and 302, and section XI of the Cement Agreement, the Department is removing 19 CFR Part 361 in its entirety.

Dated: May 4, 2009.
Ronald K. Lorentzen,
Acting Assistant Secretary for Import Administration.

[FR Doc. E9-10955 Filed 5-11-09; 8:45 am]

BILLING CODE 3510-DS-P